DEPARTMENT OF THE INTERIOR

Geological Survey

[GX16EF00PMEXP00]

Agency Information Collection Activities: Request for Comments

AGENCY: U.S. Geological Survey (USGS), Interior.

ACTION: Notice of a renewal of a currently approved information collection (1028-0092).

SUMMARY: We (the U.S. Geological Survey) will respectfully request the Office of Management and Budget (OMB) renew the information collection (IC) and/or data detailed below. To comply with the Paperwork Reduction Act of 1995 (PRA) and as part of our continuing efforts to reduce paperwork and perspective recipient burden, we invite the general public and other Federal agencies to take this opportunity to comment on the IC. This collection is scheduled to expire on 9/30/2016.

DATES: To ensure that your comments are considered, we must receive them on or before June 28, 2016.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028-0092, The National Map: Topographic Data Grants Program' in all correspondence.

FOR FURTHER INFORMATION CONTACT: Anthony Martin, National Geospatial Program, U.S. Geological Survey, 12201 Sunrise Valley Drive, Mail Stop 511, Reston, VA 20192 (mail); 703-648-4542 (phone); or amartin@usgs.gov (email). You may also find information about this ICR at www.reginfo.gov.

SUPPLEMENTARY INFORMATION:

I. Abstract

The National Geospatial Program (NGP) of the U.S. Geological Survey (USGS) contributes funding for the collection of geospatial data which increases the development of The National Map and other national geospatial databases. NGP will accept applications from State, local or tribal governments to offset present data collection programs in order to meet the growing and present need for current and accurate geospatial data. To submit a proposal a completed project narrative and application must be submitted via Grants.gov. Recipients who are selected for grants must supply a final technical report at the end of the project period. All application instructions and forms are available on the Internet through Grants.gov (http://www.grants.gov). Hard/paper submissions will not be accepted under any circumstances. All reports will be accepted electronically via email.

II. Data

OMB Control Number: 1028-0092.

Form Number: N/A.

Title: The National Map: Topographic Data Grants Program.

Type of Request: Renewal of existing information collection.

Affected Public: State, Local, Tribal Government.

Respondent's Obligation: Required to obtain or retain benefits.

Frequency of Collection: Annually.

Estimated Total Number of Annual Responses: 40 applications and 20 final reports.

Estimated Time per Response: The U.S. Geological Survey (USGS) foresees 60 hours of time will be needed to complete the necessary submissions which will include the narrative and supporting documentation. We believe that reading the requirements as well as development, proposal writing, reviewing and submission of the proposal application via Grants.gov will require 47 hours. Quarterly and final project reports must be submitted by the award recipient. The prior quarter's progress must be submitted within the report 7 days following the start of the new quarter. The quarterly report will take at least 1 hour to prepare. The final report must be submitted within 90 calendar days of the end of the project period. USGS estimates that approximately 10 hours will be needed to complete the final report.

Estimated Annual Burden Hours: 2,140 Hours per response.

Estimated Reporting and Recordkeeping “Non-Hour Cost” Burden: There are no “non-hour cost” burdens related to the collection of this data.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Julia Fields,
Deputy Director, National Geospatial Program.

[FR Doc. 2016-10041 Filed 4-28-16; 8:45 am]

BILLING CODE 4338-11-P